DEPARTMENT OF STATE

[Public Notice: 7750]

60-Day Notice of Proposed Information Collection: DS-260, Electronic Application for Immigration Visa and Alien Registration, 1405-0185

ACTION: Notice of request for public comments.

SUMMARY: The Department of State is seeking Office of Management and Budget (OMB) approval for the information collection described below. The purpose of this notice is to allow 60 days for public comment in the Federal Register preceding submission to OMB. We are conducting this process in accordance with the Paperwork Reduction Act of 1995.

• Title of Information Collection: Electronic Application for Immigration Visa and Alien Registration.

• OMB Control Number: 1405-0185.

• Type of Request: Extension.

• Originating Office: Bureau of Consular Affairs, Visa Services (CA/VO/L/R)

• Form Number: DS-260.

• Respondents: Immigrant Visa Applicants.

• Estimated Number of Respondents: 700,000.

• Estimated Number of Responses: 700,000.

• Average Hours per Response: 2 hours.

• Total Estimated Burden: 1,400,000.

• Frequency: Once per respondent.

• Obligation to Respond: Required to Obtain Benefits.

DATES: The Department will accept comments from the public up to 60 days from January 11, 2012.

ADDRESSES:

• Web: Persons with access to the Internet may view and comment on this notice by going to the regulations.gov Web site at http://www.regulations.gov/#!home and searching for the Public Notice number indicated at the beginning of this notice.

• Mail (paper, disk, or CD-ROM submissions): Chief, Legislation and Regulations Division, Visa Services—DS-260, 2401 E Street NW., Washington DC 20520-30106.

You must include the DS form number (if applicable), information collection title, and OMB control number in any correspondence.

FOR FURTHER INFORMATION CONTACT: Direct requests for additional information regarding the collection listed in this notice, including requests for copies of the proposed information collection and supporting documents, to Sydney Taylor of the Visa Services Directorate, Bureau of Consular Affairs, U.S. Department of State, 2401 E Street NW., L-630, Washington, DC 20520-30106, who may be reached at taylors2@state.gov.

SUPPLEMENTARY INFORMATION:

We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of proposed collection: Form DS-260 will be used to elicit information to determine the eligibility of aliens applying for immigrant visas.

Methodology: The DS-260 will be submitted electronically to the Department via the Internet. The applicant will be instructed to print a confirmation page containing a 2-D bar code record locator, which will be scanned at the time of processing. Applicants who submit the electronic application will no longer submit paper-based applications to the Department.

Dated: December 20, 2011.
David T. Donahue,
Deputy Assistant Secretary, Bureau of Consular Affairs, Department of State.

[FR Doc. 2012-359 Filed 1-10-12; 8:45 am]

BILLING CODE 4710-06-P